DEPARTMENT OF TRANSPORTATION

Pipeline and Hazardous Materials Safety Administration

Hazardous Materials: Notice of Actions on Special Permits

AGENCY: Pipeline and Hazardous Materials Safety Administration (PHMSA), Transportation (DOT).

ACTION: Notice of actions on special permit applications.

SUMMARY: In accordance with the procedures governing the application for, and the processing of, special permits from the Department of Transportation's Hazardous Material Regulations, notice is hereby given that the Office of Hazardous Materials Safety has received the application described herein.

DATES: Comments must be received on or before September 13, 2021.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-13, 1200 New Jersey Avenue Southeast, Washington, DC.

This notice of receipt of applications for special permit is published in accordance with part 107 of the Federal hazardous materials transportation law (49 U.S.C. 5117(b); 49 CFR 1.53(b)).

Issued in Washington, DC, on August 5, 2021.
Donald P. Burger,
Chief, General Approvals and Permits Branch.

Application No. | Applicant | Regulation(s) affected | Nature of the special permits thereof
Special Permits Data—Granted
14193-M | Honeywell International Inc | 172.101(h) | To modify the special permit to add additional portable tanks.
14518-M | Federal Cartridge Company | 172.301(c), 173.56(b), 173.62 | To modify the special permit to authorize primers to be shipped without an EX approval.
15515-M | National Aeronautics and Space Administration | 173.301(a)(1), 173.301(f)(1), 173.301(h)(3), 173.302(f)(2), 173.302(f)(4), 173.302a(a) | To modify the special permit to authorize additional outer shipping containers.
15689-M | AVL Test Systems, Inc | 172.200, 172.301(c), 177.834(h) | To modify the special permit to authorize a new bottle with protected head/valve cover and a new mounting method.
20549-M | Cellblock FCS, LLC | 172.400, 172.700(a), 172.102(c)(1), 172.200, 172.300 | To modify the special permit to authorize an increase in the maximum watt hour rating up to 1,000 for shipping ever larger damaged or defective lithium batteries.
20602-M | The Boeing Company | 173.56(b), 173.62, 173.185(a), 173.185(b), 173.201, 173.302(a), 173.304(a), 177.848(d), 173.203 | To modify the special permit to authorize an additional Class 3 hazmat.
20639-M | ICC The Compliance Center Inc | 172.200, 172.300, 172.600, 172.700(a), 172.400, 172.500, 173.185(f) | To modify the special permit to authorize the use of EXTOVER fire suppressant material in shipments.
20881-M | Arkema Inc | 172.102(c)(7) | To modify the special permit to authorize additional tanks.
21008-M | Lucid USA, Inc | 172.101(j), 173.220(d), 173.185(a)(1), 173.185(b)(5) | To modify the special permit to authorize additional cells within the batteries.
21154-N | Erickson Incorporated | 172.101(j), 172.200, 172.301(c), 172.302(c), 173.315(j)(1), 175.30 | To authorize the transportation in commerce of certain materials attached to or suspended from an aircraft in support of construction operations when no other suitable means are available or impracticable or when an aircraft is the only safe means of transportation without being subject to certain hazard communication requirements, quantity limitations, packing or loading and storage requirements.
21186-N | Cryogenic Industrial Solutions LLC | 172.203(a), 172.301(c), 180.211(c)(2)(i) | To authorize the repair of certain DOT 4L cylinders without requiring pressure testing.
21193-N | KULR Technology Corporation | 172.200, 172.300, 172.700(a), 172.400 | To authorize manufacture, mark, sale, and use of UN specification packagings for the transportation in commerce of batteries including damaged, defective, or recalled lithium ion cells and batteries and lithium metal cells and batteries and those contained in or packed with equipment.
21200-M | National Aeronautics and Space Administration | 173.301(a)(1), 173.301(f)(1), 173.301(h)(3), 173.302(a)(1), 173.302(f)(2) | To modify the special permit to add Nitrogen to the permit and to expand the authorized locations the permit may be utilized for refilling of breathing cylinders for the International Space Station.
21208-N | LG Energy Solution, Ltd. | 172.101(j) | To authorize the transportation in commerce of lithium ion modules and battery packs exceeding 35 kg aboard cargo-only aircraft.
21216-N | Bren-Tronics, Inc | 172.101(j) | To authorize the transportation in commerce of certain lithium ion modules and batteries that exceed 35 kg in non-DOT specification packaging aboard cargo-only aircraft.
21222-N | Bren-Tronics, Inc | 172.101(j), 173.185(b)(1) | To authorize the transportation in commerce of lithium ion batteries exceeding 35 kg in non-DOT specification packaging by cargo-only aircraft.
21249-N | Romeo Systems, Inc | 172.101(j) | To authorize the transportation in commerce of certain lithium ion battery modules and battery packs each with a net weight exceeding 35 kg aboard cargo-only aircraft.
21250-N | NASA/George C Marshall Space Flight Center | 173.304a | To authorize the transportation of Lithium-ion batteries and refrigerant gases in non-specification packaging (spacecraft). (mode 1)
Special Permits Data—Denied
16011-M | Americase, LLC | 172.200, 172.300, 172.600, 172.700(a), 172.400, 172.500, 173.185(f) | To modify the special permit to authorize shipment of damaged/defective batteries up to 1500Wh without full hazmat training of employees.
20425-M | Composite Advanced Technologies, LLC | 173.302(a) | To modify the special permit to waive the annual batch test for composite cylinders.
21127-N | Sodastream USA Inc | 178.35(b)(1), 178.70(e) | To authorize the manufacture of cylinders by a foreign entity without requiring Independent Inspection Agency inspection and analysis.
Special Permits Data—Withdrawn
16016-M | ISI Automotive Austria Gmbh | 173.301, 173.302a, 173.305 | To modify the special permit to authorize the addition of a further tube material for the pressure vessel shell of vessels with an outer diameter of 30mm.

[FR Doc. 2021-17150 Filed 8-11-21; 8:45 am]

BILLING CODE 4909-60-P